ENVIRONMENTAL PROTECTION AGENCY

[FRL-7021-8]

Meeting of the National Drinking Water Advisory Council; Notice of Public Meeting

AGENCY: Environmental Protection Agency.

ACTION: Notice.

SUMMARY: Under section 10(a)(2) of Public Law 92-423, “The Federal Advisory Committee Act,” notice is hereby given that a meeting of the National Drinking Water Advisory Council established under the Safe Drinking Water Act, as amended (42 U.S.C.S300f et seq.), will be held on August 22, 2001 from 1:00 p.m. until 5:00 p.m. and August 30, 2001 from 1:00 p.m. until 5:00 p.m. (Eastern Standard Time), at Resolve 1255 23rd St. NW., (Suite 275), Washington, DC. Some members of the Council will be participating by conference call. The meeting is open to the public, but due to past experience, seating will be limited.

The purpose of the meeting is for the Council to deliberate on the recommendations from the Arsenic Cost Working Group. The Arsenic Cost Working Group, comprised of nationally recognized technical experts, will have completed their review of the cost of compliance estimates associated with the January 22, 2001 Arsenic Rule. The Council will also provide its recommendations on the Arsenic Cost Review to the Agency. Oral statements from the public will be taken if time permits. Written statements from the public will also be accepted.

DATES: The meetings will be held on August 22 and 30, 2001 in Washington, DC

SUPPLEMENTARY INFORMATION: Following the January 22, 2001 Federal Register promulgation of the arsenic rule, a number of concerns were raised to EPA by States, public water systems, and other stakeholders regarding the adequacy of science and the basis for national cost estimates underlying the rule. Because of the importance of the arsenic rule and the national debate surrounding it related to science and costs, EPA's Administrator publicly announced on March 20, 2001, that the Agency would take additional steps to reassess the scientific and cost issues associated with this rule and seek further public input on each of these important issues.

The Council encourages the hearing of outside statements and will allocate, if time permits, a portion of the meeting for this purpose. Any outside parties interested in presenting an oral statement should petition the Council by telephone at (202) 260-9194, before August 20, 2001. Requests made after this date will not be accepted. Oral statements will be limited to five minutes per speaker and no more than 30 minutes total.

Any person who wishes to file a written statement can do so before or after a Council meeting. Written statements received prior to the meeting will be distributed to all members of the Council before any final discussion or vote is completed. Any statements received after the meeting will become part of the permanent meeting file and will be forwarded to the Council members for their information.

Members of the public that would like to attend the meeting, present an oral statement, or submit a written statement, should contact Ms. Janet Pawlukiewicz, Designated Federal Officer, National Drinking Water Advisory Council, U.S. EPA, Office of Ground Water and Drinking Water (4601), 1200 Pennsylvania Avenue, NW., Washington, DC 20460. The telephone number is (202) 260-9194 or E-Mail pawlukiewicz.janet@epa.gov

Dated: July 26, 2001.
Cynthia C. Dougherty,
Director, Office of Ground Water and Drinking Water.

[FR Doc. 01-19324 Filed 8-1-01; 8:45 am]

BILLING CODE 6560-50-P